DEPARTMENT OF THE INTERIOR

Office of Surface Mining Reclamation and Enforcement

[S1D1S SS08011000 SX064A000 222S180110; S2D2S SS08011000 SX064A000 22XS501520]

Grant Notification for Fiscal Year 2023

AGENCY: Office of Surface Mining Reclamation and Enforcement, Interior.

ACTION: Notice.

SUMMARY: We, the Office of Surface Mining Reclamation and Enforcement (OSMRE), are notifying the public that we intend to grant funds to eligible applicants for purposes authorized under the Surface Mining Control and Reclamation Act of 1977 (SMCRA) Title IV Abandoned Mine Land (AML) Reclamation Program, Title V Regulatory Program, and the Bipartisan Infrastructure Law (BIL) AML Program. We will award these grants during Fiscal Year 2023.

DATES: Written comments from State, Tribal, or local entities about the funding for the SMCRA Title IV AML Reclamation Program, Title V Regulatory Program, or the BIL AML Program are due to OSMRE by November 18, 2022.

ADDRESSES: You may submit comments by any of the following methods:

• Electronic mail: Send your comments to yrichardson@osmre.gov.

• Mail, hand-delivery, or courier: Send your comments to Office of Surface Mining Reclamation and Enforcement, Attn: Grants Notice, Room 4551, 1849 C Street NW, Washington, DC 20240.

FOR FURTHER INFORMATION CONTACT: Yetunde Richardson, Office of Surface Mining Reclamation and Enforcement, 1849 C Street NW, MS 4551, Washington, DC 20240; Telephone (202) 208-2766.

SUPPLEMENTARY INFORMATION:

Grant Notification

We are notifying the public that we intend to grant funds to eligible applicants for purposes authorized under SMCRA's Title IV AML Reclamation Program (30 U.S.C. 1231-1244), Title V Regulatory Program (30 U.S.C. 1251-1279), and the BIL AML Program (Pub. L. 117-58, 40701). We will award these grants during Fiscal Year 2023. Eligible applicants include those States and Tribes with existing AML reclamation programs and/or regulatory programs approved pursuant to SMCRA, as amended, 30 U.S.C. 1201 et seq., as well as those States and Tribes that are seeking to develop a regulatory program. Consistent with Executive Order 12372, we are providing State and Tribal officials the opportunity to review and comment on these proposed Federal financial assistance activities. Eighteen of the eligible applicants do not have single points of contact; therefore, we are publishing this notice as an alternate means of notification.

Description of the AML Reclamation Program

Title IV of SMCRA established the Abandoned Mine Reclamation Fund to receive the AML fees collected by OSMRE from coal operators that, along with funds from other sources, are used to finance grants to eligible States and Tribes for the reclamation of AML coal mine sites and for certain other purposes. Grant recipients use these funds to reclaim the highest priority AML coal mine sites that were abandoned before the enactment of SMCRA in 1977; to reclaim eligible non-coal sites; for projects that address the impacts of mineral development; and for eligible non-reclamation projects. In addition to the BIL AML program described below, the BIL also amended Title IV of SMCRA to extend OSMRE's AML fee collection authority through September 30, 2034, reduced AML fee rates, and extended distribution of AML fee-based grants to eligible States and Tribes through Fiscal Year 2035.

Description of the Regulatory Program

Title V of SMCRA authorizes OSMRE to provide grants to States and Tribes to develop, administer, and enforce State and Tribal regulatory programs that address, among other things, the disturbances from coal mining operations. Additionally, upon our approval of a State or Tribal regulatory program, title V authorizes that State or Tribe to assume regulatory primacy, act as the regulatory authority within the State or Tribe, and administer and enforce its approved regulatory program. These provisions of SMCRA are implemented by our regulations at title 30 of the Code of Federal Regulations, chapter VII.

Description of the BIL AML Program

The BIL, also known as the Infrastructure Investment and Jobs Act, was enacted on November 15, 2021. In addition to amending Title IV of SMCRA, the BIL authorized and appropriated $11.293 billion for deposit into the Abandoned Mine Reclamation Fund. Of the $11.293 billion appropriated, approximately $10.873 billion will be distributed to eligible States and Tribes on an equal annual basis over a 15-year period, which amounts to an annual distribution of approximately $725 million per year. In addition, the BIL provides discretion to prioritize BIL-funded projects that employ current and former employees of the coal industry.

BIL AML grants will be distributed to eligible State and Tribal reclamation programs for AML and water reclamation projects under SMCRA. These projects will abate and eliminate physical hazards to public health, safety, and the environment caused by AML sites, including emergencies. These projects also support communities in achieving their priorities and needs through collaboration and consensus-building for local AML projects. BIL AML grants may also be used by State and Tribal reclamation programs to provide safe drinking water in areas where water supplies are contaminated due to coal mines abandoned before the passage of SMCRA. As described in Executive Order 14008 and Executive Order 14052, BIL AML grants are also subject to the Justice40 Initiative, which supports environmental justice by working toward the goal that 40 percent of the overall benefits of certain Federal investments flow to disadvantaged communities that are marginalized, underserved, and overburdened by pollution. By funding additional reclamation projects, allowing States and Tribes the discretion to prioritize projects employing current and former coal industry employees, and allocating benefits to disadvantaged communities, BIL AML grants will benefit all who live and work in and near America's coalfield communities by creating jobs, reviving aquatic life in mining-polluted streams, and restoring degraded lands to a usable condition.

Glenda H. Owens,
Deputy Director, Office of Surface Mining Reclamation and Enforcement.

[FR Doc. 2022-22691 Filed 10-18-22; 8:45 am]

BILLING CODE 4310-05-P